DEPARTMENT OF JUSTICE

Antitrust Division

Notice Pursuant to the National Cooperative Research and Production Act of 1993—Auto Body Consortium, INC.—“Hot Metal Gas Forming” (“HMGF”)

Notice is hereby given that, on July 31, 2000, pursuant to Section 6(a) of the National Cooperative Research and Production Act of 1993, 15 U.S.C. § 4301, et seq. (“the Act”), Auto Body Consortium, Inc.—“Hot Metal Gas Forming” (“HMGF”) has filed written notifications simultaneously with the Attorney General and the Federal Trade Commission disclosing changes in its membership status. The notifications were filed for the purpose of extending the Act's provisions limiting the recovery of antitrust plaintiffs to actual damages under specified circumstances. Specifically, Boeing Commercial aircraft, Seattle, WA has been added as a party to this venture.

No other changes have been made in either the membership or planned activity of the group research project. Membership in this group research project remains open, and Auto Body Consortium, Inc.—“Hot Metal Gas Forming” (“HMGF”) intends to file additional written notification disclosing all changes in membership.

On December 21, 1998, Auto Body Consortium, Inc.—“Hot Metal Gas Forming” (“HMGF”) filed its original notification pursuant to Section 6(a) of the Act. The Department of Justice published a notice in the Federal Register pursuant to Section 6(b) of the Act on February 18, 1999 (64 FR 8124).

The last notification was filed with the Department of March 5, 1999. A notice was published in the Federal Register pursuant to Section 6(b) of the Act on May 26, 1999 (964 FR 28516).

Constance K. Robinson,
Director of Operations, Antitrust Division.

[FR Doc. 00-25305 Filed 10-2-00; 8:45 am]

BILLING CODE 4410-11-M